DEPARTMENT OF THE INTERIOR

Fish and Wildlife Service

Coyote Springs Investments Multiple Species Habitat Conservation Plan

AGENCY: Fish and Wildlife Service, Interior.

ACTION: Notice of intent.

SUMMARY: Pursuant to the National Environmental Policy Act, this notice advises the public that the U.S. Fish and Wildlife Service (Service) intends to gather information necessary to prepare an Environmental Impact Statement (EIS) regarding the proposed Coyote Springs Investments Multiple Species Habitat Conservation Plan (MSHCP) and issuance of an incidental take permit (Permit) to take endangered and threatened species in accordance with section 10(a) of the Endangered Species Act of 1973, as amended (Act). The Permit applicant is Coyote Springs Investments (Applicant). The application is related to potential development activities in Southern Lincoln County. The Applicants intend to request a Permit for federally listed threatened or endangered species as well as Evaluation List species. Evaluation List species include species that have been petitioned for listing; state listed species; species that have been nominated for inclusion by technical specialists; and other species of concern that co-occur with federally listed species. The species list is being refined as a part of the scoping process. In accordance with the Act, the Applicant will prepare a Habitat Conservation Plan (Plan), for, among other things, minimizing and mitigating any such take which could occur incidental to the proposed Permit activities.

The Service is furnishing this notice in order to: (1) Advise other Federal and State agencies, affected tribes, and the public of our intentions; (2) to announce the initiation of a 60-day public scoping period and (3) to obtain suggestions and information on the scope of issues to be included in the EIS.

DATES: Written comments from all interested parties must be received on or before February 4, 2002. Public scoping meetings will be held in Las Vegas, Nevada on December 11, 2001 at Texas Station Hotel, 2101 Texas Star Lane from 7 to 9 p.m. and in Alamo, Nevada on December 12, 2001 at the Alamo Annex, 100 South First West Street, from 7 to 9 p.m.

ADDRESSES: Comments and requests for information should be sent to Robert D. Williams, Field Supervisor, U.S. Fish and Wildlife Service, 1340 Financial Boulevard, Suite 234, Reno, Nevada 89502, telephone 775-861-6300, facsimile 775-861-6301. Comments and materials received will be available for public inspection, by appointment, during normal business hours at the above address.

SUPPLEMENTARY INFORMATION: The proposed project area generally includes portions of Coyote Springs Valley in both Clark and Lincoln Counties, and consists of roughly 42,800 acres of fee and leased land located in portions of Townships 11, 12 and 13 South and Ranges 63 & 64 East. The project site occupies most of the eastern portion of Coyote Springs Valley straddling both the Pahranagat Wash and the Kane Springs Wash. It is bordered by the Delamar Mountains to the north, the Meadow Valley Mountains to the east, SR 168 and the Arrow Canyon Range to the south, and US 93 to the west.

Some of the Applicant's future activities have the potential to impact species subject to protection under the Act. Section 10(a)(1)(B) permits non-Federal land owners to take endangered and threatened species, provided the take is incidental to otherwise lawful activities and will not appreciably reduce the likelihood for the survival and recovery of the species in the wild, among other permit issuance criteria. An applicant for a Permit under section 10 of the Act must prepare and submit to the Service for approval a Plan containing, among other things, a strategy for minimizing and mitigating all take associated with the proposed activities to the maximum extent practicable. The applicant must also ensure that adequate funding for the Plan will be provided.

The Applicant have initiated discussions with the Service regarding the possibility of a Permit and associated MSHCP for their activities on lands to be covered by a Permit. General activities proposed for Permit coverage include residential and commercial development, construction, and maintenance activities.

The Service will conduct an environmental review of the Plan and prepare an EIS. The environmental review will analyze the proposal as well as a full range of reasonable alternatives and the associated impacts of each. The Service is currently in the process of developing alternatives for analysis.

Comments and suggestions are invited from all interested parties to ensure that the full range of issues related to the Permit request are addressed and that all significant issues are identified. Comments or questions concerning this proposed action and the EIS should be directed to the Service (see ADDRESSES).

The environmental review of this project will be conducted in accordance with the requirements of the National Environmental Policy Act of 1969 as amended (42 U.S.C. 4321 et seq.) and its implementing regulations (40 CFR parts 1500 through 1508) and other appropriate Federal laws and regulations, policies, and procedures of the Service for compliance with those regulations. It is estimated that the draft EIS will be available for public review during the third quarter of 2002.

Dated: November 28, 2001.
John Engbring,
Acting Deputy Manager, California/Nevada Operations Office.

[FR Doc. 01-30025 Filed 12-3-01; 8:45 am]

BILLING CODE 4310-55-P